DEPARTMENT OF STATE

[Public Notice 8886]

Certification Related to Foreign Military Financing for Colombia under section 7045(A)(2) of the Department of State, Foreign Operations, and Related Programs Appropriations Act, 2014

Pursuant to the authority vested in the Secretary of State, including under section 7045(a)(2) of the Department of State, Foreign Operations, and Related Programs Appropriations Act, 2014 (Div. K, Pub. L. 113-76), I hereby certify and report that the Colombian Armed Forces and the Government of Colombia are meeting the conditions contained in section 7045 of the Joint Explanatory Statement accompanying the Act.

This Certification shall be published in the Federal Register, and copies shall be transmitted to the appropriate committees of Congress.

Dated: September 17, 2014.
John F. Kerry,
Secretary of State.

[FR Doc. 2014-23105 Filed 9-26-14; 8:45 am]

BILLING CODE 4710-29-P